SECURITIES AND EXCHANGE COMMISSION

Sunshine Act Meeting

Federal Register Citation of Previous Announcement: (67 FR 70470, November 22, 2002).

Status: Closed meeting.

Place: 450 Fifth Street, NW., Washington, DC.

Date and Time of Previously announced Meeting: Monday, November 25, 2002, at 2:30 p.m.

Change in the Meeting: Additional item.

The following item has been added to the closed meeting scheduled for Monday, November 25, 2002, at 2:30 p.m.: Formal order of investigation.

Commissioner Campos, as duty officer, determined that Commission business required the above change and that no earlier notice thereof was possible.

At times, changes in Commission priorities require alterations in the scheduling of meeting items. For further information and to ascertain what, if any, matters have been added, deleted or postponed, please contact: The Office of the Secretary at (202) 942-7070.

Dated: November 22, 2002.
Margaret H. McFarland,
Deputy Secretary.

[FR Doc. 02-30250 Filed 11-25-02; 11:53 am]

BILLING CODE 8010-01-P